DEPARTMENT OF HEALTH AND HUMAN SERVICES

Office of the Secretary

[Document Identifier: HHS-OS-0990-0302-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for revision of the approved information collection assigned OMB control number 0990-0302, scheduled to expire on December 31, 2015. Comments submitted during the first public review of this ICR will be provided to OMB. OMB will accept further comments from the public on this ICR during the review and approval period.

DATES: Comments on the ICR must be received on or before December 30, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0302-30D for reference. Proposed Project: Medical Reserve Corps Unit Profile and Reports (Revision)-OMB No. 0990-0302—Office of the Secretary/Office of the Assistant Secretary for Health/Office of the Surgeon General/Division of Civilian Volunteer Medical Reserve Corps (OS/OASH/OSG/DCVMRC) is changed to Office of the Secretary/Office of the Assistant Secretary for Preparedness and Response/Office of Emergency Management/Division of the Civilian Volunteer Medical Reserve Corps. This reorganization was effective as of 26 November 2014 as published in the Federal Register [FR Doc. 2014-28030 Filed 11-25-14; 8:45am].

Abstract: Medical Reserve Corps units are currently located in almost 1,000 communities across the United States, and represent a resource of more than 205,000 volunteers. In order to continue supporting the MRC units in communities across the United States, and to continue planning for future emergencies that are national in scope, detailed information about the MRC units, including unit demographics, contact information (regular and emergency), volunteer numbers, and information about activities is needed by the Division of Civilian Volunteer Medical Reserve Corps (DCVMRC). MRC Unit Leaders are asked to update this information on the MRC Web site at least quarterly, and to participate in a Technical Assistance Assessment at least annually. The MRC unit data collected has expanded to include a self-assessment tool for use by unit leaders to aid in developing their MRC unit. This OMB revision request is for 3 years.

Estimated Annualized Burden Table
Collection tool | Type of respondent | Number of respondents | Number of responses per respondent | Average burden hours per response | Total burden hours
Unit Profile | MRC Unit Leader | 1,000 | 4 | 30/60 | 2,000
TA Assessment | MRC Unit Leader | 1,000 | 1 | 1 | 1,000
Factors for Success | MRC Unit Leader | 1,000 | 4 | 30/60 | 2,000
Unit Activity Reporting | MRC Unit Leader | 1,000 | 4 | 15/60 | 1,000
Total |  |  |  |  | 6,000

Terry S. Clark,
Office of the Secretary, Asst Paperwork Reduction Act Reports Clearance Officer.

[FR Doc. 2015-30272 Filed 11-27-15; 8:45 am]

BILLING CODE 4150-47-P